LEGAL SERVICES CORPORATION

Sunshine Act Meetings

TIME AND DATE: The Legal Services Corporation (LSC) Board of Directors and its committees will meet January 21-23, 2024. On Sunday, January 21, the first meeting will begin at 12:30 p.m. CT, with the next meeting commencing promptly upon adjournment of the immediately preceding meeting. On Monday, January 22, the first meeting will again begin at 9:00 a.m. CT, with the next meeting commencing promptly upon adjournment of the immediately preceding meeting. On Tuesday, January 23, the first meeting will begin at 8:30 a.m. CT, with the next meeting commencing promptly upon adjournment of the immediately preceding meeting.

PLACE: Public Notice of Hybrid Meeting.

LSC will conduct its January 21-23, 2024, meetings at the Magnolia Hotel Houston, 1100 Texas Avenue, Houston, TX 77002, and virtually via Zoom.

Public Observation: Unless otherwise noted herein, the Board and all committee meetings will be open to public observation. Members of the public who wish to participate virtually in the public proceedings may do so by following the directions provided below.

Directions for Open Sessions

Sunday, January 21, 2024

• To join the Zoom meeting by computer, please use this link.

○ https://lsc-gov.zoom.us/j/85018832307?pwd=TlfEVaRH5RazooxPnAr96f42KvbfTa.1

○ Meeting ID: 850 1883 2307

○ Passcode: 12124

Monday, January 22, 2024

• To join the Zoom meeting by computer, please use this link.

○ https://lsc-gov.zoom.us/j/84130944281?pwd=bl5OEvsaffYlRvHyycdkvi8VUY9Qgh.1

○ Meeting ID: 841 3094 4281

○ Passcode: 12224

Tuesday, January 23, 2024

• To join the Zoom meeting by computer, please use this link.

○ https://lsc-gov.zoom.us/j/84862120714?pwd=rEALyOaTL37iEvh5v1OP2uCTGSmyrf.1

○ Meeting ID: 848 6212 0714

○ Passcode: 012324

○ If calling from outside the U.S., find your local number here: https://lsc-gov.zoom.us/u/acCVpRj1FD

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Open, except as noted below.

Finance Committee—Open, except that, upon a vote of the Board of Directors, the meeting may be closed to the public to discuss LSC's banking services.

Audit Committee—Open, except that, upon a vote of the Board of Directors, the meeting may be closed to the public to discuss follow-up work by the Office of Compliance and Enforcement relating to open Office of Inspector General investigations and to discuss a follow-up on Internal Control Testing.

Institutional Advancement Committee—Open, except that, upon a vote of the Board of Directors, the meeting may be closed to the public to discuss development activities, including LSC's 50th Anniversary fundraising campaign, as well as to consider and act on recommending prospective Leaders Council and Emerging Leaders Council members to the Board of Directors.

Board of Directors—Open, except that, upon a vote of the Board of Directors, a portion of the meeting may be closed to the public to receive briefings from Management and the Inspector General; to discuss LSC's office relocation; and to consider and act on potential and pending litigation involving LSC as well as a list of prospective Leaders Council and Emerging Leaders Council members.

Any portion of the closed session consisting solely of briefings does not fall within the Sunshine Act's definition of the term “meeting” and, therefore, the requirements of the Sunshine Act do not apply to such portion of the closed session.¹

¹ 5 U.S.C. 552b(a)(2) and (b). See also 45 CFR 1622.2 & 1622.3.

A verbatim written transcript will be made of the closed sessions of the Finance, Audit, Institutional Advancement Committee and Board of Directors meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule

Sunday, January 21, 2024

Start Time (All MST)

1. Operations & Regulations Committee Meeting, 12:30 p.m. CT

a. Matters to be discussed include the Committee's self-evaluation for 2023 and goals for 2024; Management's report on implementation of LSC's Strategic Plan for 2021-2024; public comments for Part 1638—Restrictions on Solicitation; and reprioritization of rulemaking (Parts 1621, 1624, and 1609).

2. Finance Committee Meeting

a. Matters to be discussed include the Committee's self-evaluation for 2023 and goals for 2024; LSC's Fiscal Year 2024 appropriation and additional supplemental appropriation requests; financial report for the first two months of Fiscal Year 2024; and LSC's Fiscal Year 2025 appropriations request.

3. Delivery of Legal Services Committee

a. Matters to be discussed include the Committee's self-evaluation for 2023 and goals for 2024; LSC's performance criteria revisions process and timeline; and the opportunity to recognize long-serving legal aid organization staff during LSC's 50th Anniversary year.

Monday, January 22, 2024

Start Time (All MST)

1. Audit Committee Meeting, 9:00 a.m. CT

a. Matters to be discussed include the Committee's self-evaluation for 2023 and goals for 2024; update on reassessment of the Committee's Charter; briefing by the Office of Inspector General; review of LSC's and the Office of Inspector General's mechanisms for the submission of confidential complaints regarding suspected fraud, theft, corruption, or misuse of funds, or problems involving internal controls, auditing, or accounting, and that there are proper procedures in place for the receipt, retention, and handling of such complaints; management update regarding Risk Management; annual 403(b) plan audit; and a briefing regarding follow-up by the Office of Compliance and Enforcement on referrals by the Office of Inspector General regarding audits and annual independent public audits of grantees.

2. Governance and Performance Review Committee

a. Matters to be discussed include annual Board and Committee self-evaluations; the Committee's self-evaluation for 2023 and goals for 2024; the recent meeting of the Legal Aid Interagency Roundtable; the LSC President's 2023 self-evaluation; and the Inspector General's 2023 activities.

Tuesday, January 23, 2024

Start Time (All MST)

1. Communications Subcommittee of the Institutional Advancement Committee, 8:30 a.m. CT

a. Matters to be discussed include the Committee's self-evaluation for 2023 and goals for 2024 and the quarterly communications and social media update.

2. Institutional Advancement Committee

a. Matters to be discussed include the Committee's self-evaluation for 2023 and goals for 2024; Leaders Council and Emerging Leaders Council updates; development activities; and the status of special and privately funded projects (including the Opioid, Veterans, and Rural Justice Task Forces and the Eviction Study).

3. LSC Board of Directors

a. Matters to be discussed include consideration of Resolution #2024-XXX: In Memoriam of David Hall; Chairman's Report; Members' Reports; President's Report; LSC's 50th Anniversary Campaign, with a guest presentation by Joseph LaMountain, Reingold, Inc.; and consideration of reports from the Institutional Advancement, Finance, Audit, Operations and Regulations, Governance & Performance Review, and Delivery of Legal Services Committees.

Please refer to the LSC website https://www.lsc.gov/events/board-directors-quarterly-meeting-jan-21-23-2024-houston-tx for the final schedule and meeting agendas in electronic format. These materials will be made available at least 24 hours in advance of the meeting start time.

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

(Authority: 5 U.S.C. 552b.)

Dated: January 11, 2024.
Stefanie Davis,
Deputy General Counsel, Legal Services Corporation.

[FR Doc. 2024-00836 Filed 1-12-24; 11:15 am]

BILLING CODE 7050-01-P